DEPARTMENT OF THE INTERIOR

Bureau of Reclamation

Fish and Wildlife Service

Trinity River Fishery Restoration Program, Weaverville, CA

AGENCIES: Bureau of Reclamation and Fish and Wildlife Service, Interior.

ACTION: Notice of availability of the Draft Supplemental Environmental Impact Statement/Environmental Impact Report (Draft SEIS/EIR) and notice of public hearings.

SUMMARY: The Bureau of Reclamation, Fish and Wildlife Service, Hoopa Valley Tribe (Tribe) and Trinity County (County) have made available for public review and comment the Draft SEIS/EIR for the Trinity River Fishery Restoration Program (Program).

A final environmental impact statement (EIS) on the Program was issued in November 2000, and a Record of Decision (ROD) executed on December 19, 2000. Central Valley water and power interests filed suit in the U.S. District Court for the Eastern District of California seeking to enjoin implementation of the ROD. On March 22, 2001, the district court issued a Memorandum Decision and Order preliminarily enjoining the Federal defendants from implementing certain flow related aspects of the ROD. In its Memorandum Decision and Order the court found that the effects of reasonable and prudent measures in the two biological opinions, as well as the effects on power in light of the California energy crisis were not adequately analyzed in the EIS. This Draft SEIS/EIR addresses the court's concerns and updates alternatives.

The purpose for the project alternatives outlined in the October 2000 EIS/EIR was as follows: to restore and maintain the natural production of anadromous fish on the Trinity River mainstem downstream of Lewiston Dam. The purpose of the Draft SEIS/EIR has been amended, consistent with court orders on the Program. The revised purpose for the alternatives discussed in the Draft SEIS/EIR is as follows: to restore and maintain the natural production of anadromous fish in the Trinity River basin downstream of Lewiston Dam and to meet the U.S. Government's tribal trust obligations. Secondary consideration is given to: (a) Meeting the Trinity Basin fishery and wildlife restoration goals of the Act of October 24, 1984, Public Law 98-541, and (b) achieving a reasonable balance among competing demands for use of Central Valley Project (CVP) water, including the requirements of fish and wildlife, agricultural, municipal and industrial, and power contractors.

DATES: Submit written comments on the Draft SEIS/EIR on or before June 22, 2004, at the address provided below. Two public hearings have been scheduled to receive oral or written comments regarding the project's environmental effects:

• Thursday, June 1, 2004, 4:30-7:30 p.m., Redding, CA

• Tuesday, June 3, 2004, 4:30-7:30: p.m., Hoopa, CA

ADDRESSES: The public hearings will be held at the following locations:

• Redding, CA—Holiday Inn, 1900 Hilltop Drive

• Hoopa, CA—Hoopa Fire Department, Highway 96

Written comments on the Draft SEIS/EIR should be sent to Mr. Russell Smith, Bureau of Reclamation, P.O. Box 723, Shasta, CA 96087; telephone: 530-275-1554; fax 530-275-2441.

Copies of the Draft SEIS/EIR (but not the previous EIS/EIR) may be requested from Mr. Smith at the above address or by calling 530-275-1554.

FOR FURTHER INFORMATION CONTACT: Mr. Russell Smith, Bureau of Reclamation, P.O. Box 723, Shasta, CA 96087; telephone: 530-275-1554; fax 530-275-2441.

SUPPLEMENTARY INFORMATION: The primary objective of the Program is to meet Federal trust responsibilities for tribal fishery resources and restore the fisheries in the Trinity River basin to the level that existed prior to the construction of the Trinity River Division (TRD) of the CVP. These actions are authorized by the Act of August 12, 1955, 69 Stat. 719; the Trinity River Basin Fish and Wildlife Management Act, Public Law 98-541 (1984), as amended, and the Central Valley Project Improvement Act, Public Law 102-575, Title XXXIV (1992) (CVPIA). The Service and Reclamation are the Federal co-leads for purposes of complying with the National Environmental Policy Act (NEPA); along with Hoopa Valley Tribe, which is also acting in a co-lead capacity. Trinity County functions as the state lead agency for purposes of complying with the California Environmental Quality Act (CEQA).

In 1983, an EIS on the Trinity River Basin Fish and Wildlife Management Program was prepared by the Service (U.S. Fish and Wildlife Service, 1983). The environmental document analyzed habitat restoration actions, watershed rehabilitation, and improvements to the Trinity River Salmon and Steelhead Hatchery (TRSSH). The 1983 EIS clarified that the hatchery's purpose was to mitigate for the loss of the 109 miles of habitat upstream of Lewiston Dam, whereas, the restoration and rehabilitation projects were explicitly designed to increase natural fish production below the dam.

In 1984, Congress enacted the Trinity River Basin Fish and Wildlife Management Act (Pub. L. 98-541). It formalized the existence of the Trinity River Basin Fish and Wildlife Task Force (Task Force) and directed the Secretary of the Interior (Secretary) to implement measures to restore fish and wildlife habitat in the Trinity River Basin. The Task Force was directed at implementation of a fish and wildlife management program to “restore natural fish and wildlife populations to levels approximating those which existed immediately prior to the construction of the Trinity Division.” In 1996, Congress reauthorized and amended the original Trinity River Basin Fish and Wildlife Management Act (Pub. L. 104-143). The 1996 amendments clarified that “restoration is to be measured not only by returning adult anadromous fish spawners, but by the ability of dependent tribal, commercial, and sport fisheries to participate fully, through enhanced in-river and ocean harvest opportunities, in the benefits of restoration * * *.”

In 1992, Congress passed the CVPIA (Pub. L. 102-575, Title XXXIV) in order to protect, restore, and enhance fish, wildlife, and associated habitats in the Central Valley, including the Trinity River Basin. Specifically, the CVPIA provides at section 3406(b)(23), that “[i]n order to meet Federal trust responsibilities to protect the fishery resources of the Hoopa Valley Tribe and meet the fishery restoration goals of Public Law 98-541,” the Secretary is directed to complete the Trinity River Flow Evaluation Study (TRFES) and to develop recommendations “based on the best available scientific data, regarding permanent instream fishery flow requirements and TRD operating criteria and procedures for the restoration and maintenance of the Trinity River fishery.” The CVPIA also specifically provided for the Secretary to consult with the Hoopa Valley Tribe on the TRFES and, upon the Tribe's concurrence, to implement the restoration recommendations accordingly.

A joint EIS/EIR for the Program was prepared by the Service, Reclamation, Trinity County, and the Hoopa Valley Tribe, and was completed in October 2000. A ROD selecting the alternative to be implemented for the Program was signed by the Secretary, with the concurrence of the Hoopa Valley Tribe, pursuant to section 3406(b)(23) of the CVPIA, and issued in December 2000. However, the EIR was not certified by Trinity County and it is not a finalized document under CEQA.

Subsequent to execution of the ROD, water and power interests in the Central Valley of California amended a previously filed lawsuit in Federal court against the Federal agencies materially involved in either the decision making process for the ROD or the associated Endangered Species Act (ESA) approvals for the Program (Reclamation, the Service, and the National Marine Fishery Service (NMFS)), in Federal district court. Plaintiffs sought, and were granted a preliminary injunction for implementation of certain flow-related aspects of the ROD. The terms of the injunction limit the increase in flows in the Trinity River which may be implemented in the ROD, but allow the Secretary to proceed with all other activities approved by the ROD. Westlands Water District v. United States Department of the Interior, CIVF-00-7124-OWW/DLB (E.D. Cal., filed May 3, 2001).

The lead agencies published a Notice of Intent on March 25, 2002 (67 FR 13647) announcing plans to produce a Draft SEIS/EIR and soliciting public input and comment on the process. A scoping meeting was held in Redding, California on May 9, 2002.

On December 10, 2002, the court issued a Memorandum Decision and Order re: Cross-motions for Summary Judgment to address the merits of the litigation including the validity of the EIS and ROD. The court's ruling on the merits found that the EIS failed to comply with Federal environmental statutes in certain respects and enjoined, in part, the ROD until Interior completes the Draft SEIR/EIR. The court's December 10 memorandum provided detailed direction regarding the preparation of the Draft SEIS/EIR that was not available for the previous scoping effort, including direction on the purpose statement for the Draft SEIS/EIR, alternatives to be considered in the Draft SEIS/EIR, and a timeline for completion of the Draft SEIS/EIR.

On February 20, 2003, the court entered final judgment in the case, finding that the ROD for the Program, issued on December 19, 2000, and the associated biological opinions issued by the Service and the NMFS, were unlawful in part. The court found that the ROD was in violation of NEPA in that it had an improperly framed purpose statement and the range of alternatives was too narrow. Certain reasonable and prudent measures set forth in the biological opinions were found to exceed the agencies' authority under the ESA in that they required major modifications to operations of the CVP. The court also found the Government in breach of its general and specific Federal trust obligations to the Hoopa Valley and Yurok Tribes, as set out under CVPIA section 3406(b)(23) and related statutes. The case currently is on appeal to the U. S. Court of Appeals for the Ninth Circuit.

In response to the more detailed direction from the district court's ruling, additional scoping meetings were held on July 8, 2003, in Redding, California, and July 10, 2003, in Hoopa, California, to solicit public input on alternatives, concerns, and issues to be addressed in the Draft SEIS/EIR.

The Draft SEIS/EIR updates information on alternatives described in the October 2000 EIS/EIR. These alternatives include: Existing Conditions, No Action, Mechanical Restoration (revised to address the court's concerns and using information submitted by commenters), Percent Inflow (modified to address the court's concerns), Flow Evaluation and Maximum Flow. An additional alternative is also evaluated: a 70 Percent Inflow Alternative, based on comments documented in the October 2000 EIS/EIR. Consistent with the October 2000 EIS/EIR, the Flow Evaluation Alternative remains the designated Preferred Alternative.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: March 30, 2004.
Willie R. Taylor,
Director, Office of Environmental Policy and Compliance.

[FR Doc. 04-9300 Filed 4-22-04; 8:45 am]

BILLING CODE 4310-MN-P